DEPARTMENT OF AGRICULTURE

Animal and Plant Health Inspection Service

[Docket No. APHIS-2013-0035]

Notice of Request for Extension of Approval of an Information Collection; Importation of Plants for Planting

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of plants for planting.

DATES: We will consider all comments that we receive on or before August 19, 2013.

ADDRESSES: You may submit comments by either of the following methods:

• Federal eRulemaking Portal: Go to http://www.regulations.gov/#!documentDetail;D=APHIS-2013-0035-0001.

• Postal Mail/Commercial Delivery: Send your comment to Docket No. APHIS-2013-0035, Regulatory Analysis and Development, PPD, APHIS, Station 3A-03.8, 4700 River Road Unit 118, Riverdale, MD 20737-1238.

Supporting documents and any comments we receive on this docket may be viewed at http://www.regulations.gov/#!docketDetail;D=APHIS-2013-0035 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of plants for planting, contact Mr. Arnold Tschanz, Senior Regulatory Policy Specialist, PPIP, PHP, PPQ, 4700 River Road Unit 133, Riverdale, MD 20737; (301) 851-2179. For copies of more detailed information on the information collection, contact Mrs. Celeste Sickles, APHIS' Information Collection Coordinator, at (301) 851-2908.

SUPPLEMENTARY INFORMATION:

Title: Importation of Plants for Planting.

OMB Number: 0579-0279.

Type of Request: Extension of approval of an information collection.

Abstract: Under the Plant Protection Act (7 U.S.C. 7701 et seq.), the Secretary of Agriculture is authorized to prohibit or restrict the importation, entry, or interstate movement of plants, plant products, and other articles to prevent the introduction of plant pests into the United States or their dissemination within the United States. This authority has been delegated to the Animal and Plant Health Inspection Service (APHIS).

APHIS regulations contained in “Subpart-Plants for Planting” (7 CFR 319.37 through 319.37-14) prohibit or restrict, among other things, the importation of living plants, plant parts, seeds, and plant cuttings for planting or propagation. In accordance with these regulations, plants for planting from certain parts of the world may be imported into the United States only under certain conditions to prevent the introduction of plant pests into the United States.

Paragraph (u) of § 319.37-5 provides the requirements for the importation of Pelargonium spp. plants from the Canary Islands, and paragraph (v) provides the requirements for the importation of plants from Israel, except bulbs, dormant perennials, and seeds. These requirements involve the use of information collection activities, including phytosanitary certificates with additional declaration statements, grower registration and agreements, and production site registration for the export program.

These information collection activities were previously approved by the Office of Management and Budget (OMB) under the title “Importation of Nursery Stock.” However, on May 27, 2011, we published in the Federal Register (76 FR 31172-31210, Docket No. APHIS-2006-0011) a final rule that changed the nursery stock regulations (7 CFR 319.37 through 319.37-14) to refer instead to “plants for planting.” As a result, we have revised the title of this information collection to “Importation of Plants for Planting.”

We are asking OMB to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.11 hours per response.

Respondents: Importers, nurseries, and the national plant protection organizations of Spain and Israel.

Estimated annual number of respondents: 60.

Estimated annual number of responses per respondent: 86.07.

Estimated annual number of responses: 5,164.

Estimated total annual burden on respondents: 559 hours. (Due to averaging, the total annual burden hours may not equal the product of the annual number of responses multiplied by the reporting burden per response.)

All responses to this notice will be summarized and included in the request for OMB approval. All comments will also become a matter of public record.

Done in Washington, DC, this 12th day of June 2013.
Kevin Shea,
Acting Administrator, Animal and Plant Health Inspection Service.

[FR Doc. 2013-14466 Filed 6-17-13; 8:45 am]

BILLING CODE 3410-34-P